DEPARTMENT OF COMMERCE

National Telecommunications and Information Administration

Notice of Availability of a Final Finding of No Significant Impact (FONSI) for the Public Safety Interoperable Communications (PSIC) Grant Program

AGENCY: National Telecommunications and Information Administration, U.S. Department of Commerce.

ACTION: Notice.

SUMMARY: The National Telecommunications and Information Administration (NTIA) publishes this notice of availability of a Final Finding of No Significant Impact (FONSI). The Final FONSI was written to evaluate the environmental impact of the Public Safety Interoperable Communications (PSIC) Grant Program.

DATES: The effective date of the Final FONSI is April 24, 2009.

ADDRESSES: The Final FONSI is available online at http://www.regulations.gov and also will be available on NTIA's website at http://www.ntia.doc.gov/psic.

FOR FURTHER INFORMATION CONTACT: Written requests for a hard copy of the Final FONSI should be submitted to: Ms. Laura Pettus, National Telecommunications and Information Administration, 1401 Constitution Avenue, N.W., Room 4812, Washington, DC 20230.

SUPPLEMENTARY INFORMATION: The Digital Television Transition and Public Safety Act of 2005 (the Act) directed NTIA, in consultation with the Department of Homeland Security (DHS), to establish and administer a grant program to assist public safety agencies in the advancement of interoperable communications.¹ The Act authorized NTIA to make payments not to exceed $1 billion, in the aggregate, through fiscal year 2010 to carry out the PSIC program. The grant program assisted public safety agencies in the acquisition of, deployment of, or training for the use of interoperable communications systems that can utilize reallocated public safety spectrum in the 700 MHz band for radio communication.²

¹ The Digital Television Transition and Public Safety Act of 2005 § 3006, 47 U.S.C. § 309 note (2008), Pub. L. No. 109-171, 120 Stat. 25. The PSIC grant program requirements were subsequently amended by the Implementing Recommendations of the 9/11 Commission Act of 2007 § 2201, 47 U.S.C. § 309 note (2008), Pub. L. No. 110-53, 121 Stat. 276.

² For additional information regarding the PSIC Grant Program, see, Public Safety Interoperable Communications Grant Program, Improving Interoperable Communications Nationwide: Overview of Initial State and Territory Investments, http://www.ntia.doc.gov/psic/PSIC%20 Investment%20Data%20Analysis%20(report%20only).pdf.

On September 30, 2007, the PSIC Grant Program awarded $968,385,000 to fund interoperable communications projects for 56 States and Territories.³ These awards represent the largest single infusion of Federal funding ever provided for State, Territory, and local agencies to implement interoperable communications solutions for public safety.

³ Section 4 of the Call Home Act of 2006, 47 U.S.C. § 309 note (2008), Pub. L. No. 109-459, 120 Stat. 3399, mandated that all PSIC funds be awarded by September 30, 2007.

On February 19, 2009, NTIA published a Notice of Availability of a Final Programmatic Environmental Assessment (PEA) and Draft FONSI for the PSIC Grant Program.⁴ The comment period closed on March 23, 2009. NTIA received three (3) comments. These comments were from the Association of Public-Safety Communications Officials (APCO), the National Public Safety Telecommunications Council (NPSTC), and the Federal Communications Commissions (FCC). The APCO and NPSTC commenters suggested that NTIA's chosen environmental procedures would be overly burdensome and that NTIA should use the FCC's environmental evaluation process. NTIA notes that the National Environmental Policy Act of 1969 (NEPA) would not permit this approach under these circumstances, and thus, did not amend the draft FONSI in response. NTIA did clarify in the final FONSI that the Tower Construction Notification System should only be used for projects involving communication of towers and is not suitable for use for other types of PSIC-funded projects.

⁴ 74 Fed. Reg. 7663 (2009).

NTIA prepared the Final FONSI in accordance with the requirements of NEPA and the Council on Environmental Quality (CEQ) regulations for implementing NEPA.⁵ The Final FONSI may be reviewed at http://www.regulations.gov or on NTIA's website as noted above. In addition, copies may be obtained by writing to Ms. Laura Pettus as provided above.

⁵ National Environmental Policy Act of 1969, 42 U.S.C. § 4321 (2008); Council on Environmental Quality for Implementing the Procedural Provisions of NEPA, 40 C.F.R. parts 1500-1508 (2008).

Dated: April 20, 2009.
Kathy D. Smith,
Chief Counsel, National Telecommunications and Information Administration.

[FR Doc. E9-9410 Filed 4-23-09; 8:45 am]

BILLING CODE 3510-60-S